DEPARTMENT OF COMMERCE

National Oceanic and Atmospheric Administration

[RTID 0648-XB039]

Notice of Availability of the Deepwater Horizon Oil Spill Louisiana Trustee Implementation Group Draft Phase II Restoration Plan #3.2: Mid-Barataria Sediment Diversion; Extension of Public Comment Period

AGENCY: National Marine Fisheries Service (NMFS), National Oceanic and Atmospheric Administration (NOAA), Commerce.

ACTION: Notice of availability; request for comments; extension of comment period.

SUMMARY: We are extending the public comment period on our Deepwater Horizon Oil Spill Louisiana Trustee Implementation Group Draft Phase II Restoration Plan #3.2: Mid-Barataria Sediment Diversion (Draft Phase II RP #3.2). We opened the original comment period via a March 5, 2021, Federal Register notice. This notice extends that comment period through June 3, 2021.

DATES: Comments must be submitted electronically or postmarked by June 3, 2021.

ADDRESSES:

Obtaining Documents: You may download the Draft Phase II RP #3.2 at: http://www.gulfspillrestoration.noaa.gov/restoration-areas/louisiana.

Submitting Comments: You may submit comments on the Draft Phase II RP #3.2 by one of the following methods:

• Via the Web: https://parkplanning.nps.gov/MBSD;

• Via U.S. Mail: U.S. Army Corps of Engineers, New Orleans District, Attn: CEMVN-OD-SE, MVN-2012-2806-EOO, 7400 Leake Avenue, New Orleans, LA 70118. Please note that mailed comments must be postmarked on or before the comment deadline of June 3, 2021;

• By email: Submit electronic comments to CEMVN-Midbarataria@usace.army.mil; or

• By phone: Submit oral comments via the toll-free phone number: 1-866-211-9205.

FOR FURTHER INFORMATION CONTACT: National Oceanic and Atmospheric Administration—Mel Landry, NOAA Restoration Center, (310) 427-8711, gulfspill.restoration@noaa.gov.

SUPPLEMENTARY INFORMATION:

Introduction

On March 20, 2018, the Louisiana TIG completed its Strategic Restoration Plan and Environmental Assessment #3: Restoration of Wetlands, Coastal, and Nearshore Habitats in the Barataria Basin, Louisiana (SRP/EA #3). In addition to identifying a restoration strategy for the Barataria Basin and confirming its 2018 decision to move forward with the Spanish Pass Increment of the Barataria Basin Ridge and Marsh Creation project, the SRP/EA also advanced a large-scale sediment diversion for further evaluation and planning in a future Phase II restoration plan. Since approval of the SRP/EA #3, the Louisiana TIG has been evaluating a variety of potential alternatives for this large-scale sediment diversion to meet its purpose: Deliver freshwater sediment, and nutrients to the Barataria Basin through a large-scale sediment diversion from the Mississippi River; reconnect and re-establish sustainable deltaic processes between the Mississippi River and the Barataria Basin; and create, restore, and sustain wetlands and other deltaic habitats and associated ecosystem services. Tiering from the SRP/EA #3, the Louisiana TIG is proposing in this Phase II RP #3.2 implementation of the Mid-Barataria Sediment Diversion project. In accordance with the National Environmental Policy Act (NEPA) the environmental consequences of the restoration alternatives are evaluated in the associated U.S. Army Corps of Engineers, New Orleans District (USACE CEMVN) Draft Environmental Impact Statement for the Proposed Mid Barataria Sediment Diversion Project, Plaquemines and Jefferson Parishes (MBSD DEIS) to which the Louisiana TIG Federal Trustees are cooperating agencies. The concurrent public comment period for the MBSD DEIS is also being extended 30 days and will close on the same date as the comment period for the Draft Phase II RP #3.2.

Background

For additional background information, see our original Federal Register notice, with which we opened the comment period (86 FR 12915; March 5, 2021).

Invitation To Comment

The Louisiana TIG seeks public review and comment on the Draft Phase II RP #3.2 (see ADDRESSES above). Before including your address, telephone number, email address, or other personal identifying information in your comment, please be aware that your entire comment, including your personal identifying information, will become part of the public record.

Additional Access to Materials

You may request a CD of the Draft Phase II RP #3.2 (see FOR FURTHER INFORMATION CONTACT above). Copies of the Draft Phase II RP #3.2 are also available for review during the public comment period at the following locations:

Hard Copies of the Draft Phase II RP #3.2 and MBSD DEIS
Location | Address
Lafitte Library | 4917 City Park Drive, Lafitte, LA 70067, (504) 689-5097.
West Bank Regional Library | 2751 Manhattan Boulevard, Harvey, LA 70058, (504) 364-2660.
East New Orleans Regional Library | 5641 Read Boulevard, New Orleans, LA 70127, (504) 596-0200.
Belle Chasse Library | 8442 Highway 23, Belle Chasse, LA 70037, (504) 394-3570.
Port Sulphur Library | 139 Civic Drive, Port Sulphur, LA 70083, (337) 527-7200.
Buras Library | 35572 Highway 11, Buras, LA 70041, (504) 564-0944.
South Lafourche Library | 16241 East Main Street, Cut Off, LA 70345, (985) 632-7140.
St. Charles Parish Library, Paradis Branch | 307 Audubon Street, Paradis, LA 70080, (985) 758-1868.

Hard Copies of the Draft Phase II RP #3.2 and MBSD DEIS Executive Summary With Electronic Copies of the Draft EIS and Appendices on a USB
Location | Address
St. Tammany Parish Library | 310 W 21st Avenue, Covington, LA 70433, (985) 893-6280.
Terrebonne Parish Library | 151 Library Drive, Houma, LA 70360, (985) 876-5861.
New Orleans Public Library | 219 Loyola Avenue, New Orleans, LA 70112, (504) 596-2570.
East Baton Rouge Parish Library | 7711 Goodwood Boulevard, Baton Rouge, LA 70806, (225) 231-3750.
Jefferson Parish Library, East Bank Regional Library | 4747 W Napoleon Avenue, Metairie, LA 70001, (504) 838-1190.
St. Bernard Parish Library | 2600 Palmisano Boulevard, Chalmette, LA 70043, (504) 279-0448.
St. Martin Parish Library | 201 Porter Street, St. Martinville, LA 70582, (337) 394-2207.
Alex P. Allain Library | 206 Iberia Street, Franklin, LA 70538, (337) 828-5364.
Vermilion Parish Library | 405 E Victor Street, Abbeville, LA 70510, (337) 893-2674.
Martha Sowell Utley Memorial Library | 705 W 5th Street, Thibodaux, LA 70301, (985) 447-4119.
Calcasieu Parish Public Library, Central Branch | 301 W Claude Street, Lake Charles, LA 70605, (337) 721-7116.
Iberia Parish Library | 445 E Main Street, New Iberia, LA 70560, (337) 364-7024.
LSU Agricultural Center, Southwest Region | 1105 West Port Street, Abbeville, LA 70510, (337) 898-4335.

Authority

The authority of this action is the Oil Pollution Act of 1990 (33 U.S.C. 2701 et seq.) and its implementing Oil Pollution Act Natural Resource Damage Assessment regulations found at 15 CFR part 990 and the National Environmental Policy Act of 1969 (42 U.S.C. 4321 et seq.).

Dated: April 22, 2021.
Carrie Diane Robinson,
Director, Office of Habitat Conservation, National Marine Fisheries Service.

[FR Doc. 2021-08786 Filed 4-27-21; 8:45 am]

BILLING CODE 3510-22-P